COORDINATING COUNCIL ON JUVENILE JUSTICE AND DELINQUENCY PREVENTION

[OJP (OJJDP) Docket No. 1469]

Meeting of the Coordinating Council on Juvenile Justice and Delinquency Prevention

AGENCY: Coordinating Council on Juvenile Justice and Delinquency Prevention.

ACTION: Notice of meeting.

SUMMARY: The Coordinating Council on Juvenile Justice and Delinquency Prevention (Council) is announcing its June 8, 2007 meeting.

DATES: Friday, June 8, 2007, 8:30 a.m. to 12:30 p.m.

ADDRESSES: The meeting will take place at the U.S. Department of Agriculture (USDA), Waterfront Centre, 800 Ninth Street, SW., in Meeting Room 1410.

FOR FURTHER INFORMATION CONTACT: Robin Delany-Shabazz, Designated Federal Official, by telephone at 202-307-9963 [Note: this is not a toll-free telephone number], or by e-mail at Robin.Delany-Shabazz@usdoj.gov.

SUPPLEMENTARY INFORMATION: The Coordinating Council on Juvenile Justice and Delinquency Prevention, established pursuant to Section 3(2)A of the Federal Advisory Committee Act (5 U.S.C. App. 2) will meet to carry out its advisory functions under Section 206 of the Juvenile Justice and Delinquency Prevention Act of 2002, 42 U.S.C. 5601, et seq. Documents such as meeting announcements, agendas, minutes, and interim and final reports will be available on the Council's Web page at http://www.JuvenileCouncil.gov. (You may also verify the status of the meeting at that web address.)

Although designated agency representatives may attend, the Council membership is composed of the Attorney General (Chair), the Secretary of Health and Human Services, the Secretary of Labor, the Secretary of Education, the Secretary of Housing and Urban Development, the Administrator of the Office of Juvenile Justice and Delinquency Prevention (Vice Chair), the Director of the Office of National Drug Control Policy, the Chief Executive Officer of the Corporation for National and Community Service, and the Assistant Secretary of Homeland Security for U.S. Immigration and Customs Enforcement. Up to nine additional members are appointed by the Speaker of the House of Representatives, the Senate Majority Leader, and the President of the United States.

Meeting Agenda

The agenda for this meeting will include: (a) Opening remarks from USDA's Deputy Secretary Charles F. Conner; (b) a panel on the partnership between USDA's 4-H Programs and the military and the implications of that particular model of collaboration for federal coordination concerning children and youth issues; (c) reports from the Council's working groups; (d) legislative, program and agency updates; and (e) other business and announcements.

Registration

For security purposes, members of the public who wish to attend the meeting must pre-register online at http://www.juvenilecouncil.gov/. Should problems arise with web registration, call Daryel Dunston at 240-221-4343 or send a request to register for the June 8, 2007 Council meeting to Mr. Dunston. Include name, title, organization or other affiliation, full address and phone, fax and email information and send to his attention either by fax at: 301-945-4295 or by e-mail to ddunston@edjassociates.com. Register no later than Friday, June 1, 2007. [Note: these are not toll-free telephone numbers.] Additional identification documents may be required. Space is limited.

Note: Photo identification will be required for admission to the meeting.

Written Comments

Interested parties may submit written comments by Friday June 1, 2007, to Robin Delany-Shabazz, Designated Federal Official for the Coordinating Council on Juvenile Justice and Delinquency Prevention, at Robin.Delany-Shabazz@usdoj.gov. The Coordinating Council on Juvenile Justice and Delinquency Prevention expects that the public statements presented will not repeat previously submitted statements. Written questions and comments from the public may be invited at this meeting.

J. Robert Flores,
Administrator, Office of Juvenile Justice and Delinquency Prevention.

[FR Doc. 07-2517 Filed 5-18-07; 8:45 am]

BILLING CODE 4410-18-P